DEPARTMENT OF COMMERCE

National Oceanic and Atmospheric Administration

50 CFR Part 223

[Docket No. 250709-0123]

RIN 0648-BJ52

Endangered and Threatened Species; Designation of Critical Habitat for Five Species of Threatened Indo-Pacific Corals; Correction

AGENCY: National Marine Fisheries Service (NMFS), National Oceanic and Atmospheric Administration (NOAA), Commerce.

ACTION: Final rule; correction.

SUMMARY: NMFS is correcting a final rule that appeared in the Federal Register of July 15, 2025. The document designated critical habitat for five species of Indo-Pacific corals that are listed as threatened under the Endangered Species Act (ESA). As part of the final rule, NMFS added a section describing the critical habitat areas being designated and amended a table to cross-reference the newly added section for each of the five species. In amending the table, NMFS inadvertently used the incorrect section number as the cross-reference. This document corrects those errors.

DATES: The rule is effective August 14, 2025.

FOR FURTHER INFORMATION CONTACT: Lance Smith, NMFS, Pacific Islands Regional Office, 808-725-5131, Lance.Smith@noaa.gov; John Rippe, NMFS, Office of Protected Resources, 301-427-8467, John.Rippe@noaa.gov.

SUPPLEMENTARY INFORMATION: In FR Doc. 2025-13238 appearing on page 31800 in the Federal Register of Tuesday, July 15, 2025, the following corrections are made:

§ 223.102 [Corrected]

1. On page 31823, in § 223.102(e), in the table, in the fifth column under the heading “Critical habitat,” in each of the entries for “Acropora globiceps,” “Acropora retusa,” “Acropora speciosa,” “Fimbriaphyllia paradivisa,” and “Isopora crateriformis,” the cross-reference to “226.230” is corrected to read “226.232.”

Authority: 16 U.S.C. 1531 et seq.

Dated: August 11, 2025.
Samuel D. Rauch III,
Deputy Assistant Administrator for Regulatory Programs, National Marine Fisheries Service.

[FR Doc. 2025-15609 Filed 8-14-25; 8:45 am]

BILLING CODE 3510-22-P